DEPARTMENT OF AGRICULTURE

Forest Service

36 CFR Part 219

RIN 0596-AB86

National Forest System Land Management Planning; Correction

AGENCY: Forest Service, USDA.

ACTION: Correcting amendment.

SUMMARY: This document makes technical corrections Forest Service regulations concerning the administrative review procedures that the responsible official may use in some cases when approving plans, plan amendments, or plan revisions during the transition period for the rule. A final rule was published in volume 73 of the Federal Register, page 21468, April 21, 2008. This document makes corrections to the April 21 rule.

DATES: Effective Date: These corrections are effective December 31, 2008.

ADDRESSES: Written inquiries about this correction notice may be sent to the Director, Ecosystem Management Coordination Staff, USDA Forest Service, 1400 Independence Ave., SW., Mailstop Code 1104, Washington, DC 20250-1104.

FOR FURTHER INFORMATION CONTACT: Ecosystem Management Coordination Staff's Planning Specialist Regis Terney at (202) 205-1552.

SUPPLEMENTARY INFORMATION:

Background

In volume 73 of the Federal Register, page 21468, April 21, 2008 (73 FR 21468) the United States Department of Agriculture (Department) published a final rule setting forth directions for developing, amending, revising, and monitoring land management plans (the planning rule). On May 27, 2008, the Office of the Federal Register informed the Department that citing “36 CFR 217” in the Code of Federal Regulations (CFR) was not appropriate because “36 CFR 217” no longer exists. Currently, part 219 refers several times to the administrative review procedures “at 36 CFR part 217 in effect prior to November 9, 2000 (see 36 CFR parts 200 to 299, revised as of July 1, 2000).”

Need for Correction

These Code of Federal Regulations references must be removed because (1) they refer to an outdated edition of the CFR, (2) part 217 has not been codified in the CFR since 2000, and (3) the reference is confusing to people who will not find part 217 in the CFR. Therefore the Department is issuing a technical correction to section 219.14(b)(2) and section 219.14(b)(3)(iii) of the planning rule.

The planning rule's transition provisions, at 36 CFR 219.14(b), allow a responsible official to provide either objection procedures, as provided by section 219.13 of the planning rule, or the administrative appeal procedures formerly codified under 36 CFR part 217 for administrative review of land management plans or plan amendments in some situations. In the place of “36 CFR part 217” in the corrected rule, the Department cites the Federal Register notices for the procedures formerly codified at 36 CFR part 217.

The Department identifies these procedures as the “optional appeal procedures available during the planning rule transition period.” This format eliminates references to the previous coding of the administrative appeal and review procedures in the CFR to avoid confusion as to the proper status of those procedures. The “optional appeal procedures available during the planning rule transition period,” are 54 FR 3357 (January 23, 1989), as amended at 54 FR 13807 (April 5, 1989); 54 FR 34509 (August 21, 1989); 55 FR 7895 (March 6, 1990); 56 FR 4918 (February 6, 1991); 56 FR 46550 (September 13, 1991); and 58 FR 58915 (November 4, 1993). The “optional appeal procedures available during the planning rule transition period,” are available at http://www.fs.fed.us/emc/applit/includes/PlanAppealProceduresDuringTransition.pdf.

List of Subjects in 36 CFR Part 219

Administrative practice and procedure, Environmental impact statements, Indians, Intergovernmental relations, National forests, Reporting and recordkeeping requirements, Science and technology.

Accordingly, 36 CFR part 219 is corrected by making the following correcting amendments:

PART 219—PLANNING

1. The authority citation for subpart A continues to read as follows:

Authority: 5 U.S.C. 301; 16 U.S.C. 1604, 1613.

Subpart A—National Forest System Land Management Planning

2. In § 219.14 revise paragraphs (b)(2) and (b)(3)(iii) to read as follows:

§ 219.14 Effective dates and transition.

* * * * *

(b) * * *

(2) Plan Amendments. With respect to plans approved or revised pursuant to the planning regulation in effect before November 9, 2000, (see 36 CFR parts 200 to 299, Revised as of July 1, 2000), a 3-year transition period for plan amendments begins on April 21, 2008. During the transition period, plan amendments may continue using the provisions of the planning regulation in effect before November 9, 2000, or may conform to the requirements of this subpart. If the responsible official uses the provisions of the prior planning regulations, the responsible official may elect to use either the objection procedures of this subpart or the optional appeal procedures available during the planning rule transition period. The optional appeal procedures available during the planning rule transition period are published at 54 FR 3357 (January 23, 1989), as amended at 54 FR 13807 (April 5, 1989); 54 FR 34509 (August 21, 1989); 55 FR 7895 (March 6, 1990); 56 FR 4918 (February 6, 1991); 56 FR 46550 (September 13, 1991); and 58 FR 58915 (November 4, 1993). Plan amendments initiated after the transition period must conform to the requirements of this subpart.

(3) * * *

(iii) Except when a plan amendment is approved contemporaneously with a project or activity and applies only to that project or activity (in a way that 36 CFR part 215 or part 218, subpart A apply), the responsible official may elect to use either the objection procedures of this subpart or the optional appeal procedures available during the planning rule transition period. The optional appeal procedures available during the planning rule transition period are published at 54 FR 3357 (January 23, 1989), as amended at 54 FR 13807 (April 5, 1989); 54 FR 34509 (August 21, 1989); 55 FR 7895 (March 6, 1990); 56 FR 4918 (February 6, 1991); 56 FR 46550 (September 13, 1991); and 58 FR 58915 (November 4, 1993).

* * * * *

Dated: December 24, 2008.
Hank Kashdan,
Deputy Chief, Business Operations.

[FR Doc. E8-31165 Filed 12-30-08; 8:45 am]

BILLING CODE 3410-11-P